DEPARTMENT OF THE TREASURY

Internal Revenue Service

[Delegation Order No. 183 (Rev. 8)]

Delegation of Authority

AGENCY: Internal Revenue Service (IRS), Treasury.

ACTION: Delegation of authority.

SUMMARY: Extension of Time for Making Certain Elections. The text of the delegation order appears below.

FOR FURTHER INFORMATION CONTACT: Sharon Horn, Office of Associate Chief Counsel (Corporate), Sharon.Y.Horn@m1.irscounsel. treas.gov; (202) 622-7700 (Not a toll-free call); Frank Inserra, Office of Associate Chief Counsel (General Legal Services), Francis.C.Inserra@m1. irscounsel.treas.gov, (202) 283-7900 (not a toll-free call), 1111 Constitution Avenue, NW., Washington, DC 20024.

Order Number 183 (Rev. 8)

Effective Date: April 20, 2001.

Extension of Time for Making Certain Elections

(1) Authority: To grant, for cases within their respective jurisdictions, a reasonable extension of the time fixed by regulations, or by a revenue ruling, a revenue procedure, a notice, or an announcement published in the Internal Revenue Bulletin, for the making of an election or application for relief in respect of tax under all subtitles of the Internal Revenue Code, except subtitles E, G, H, and I, subject to the requirements of 26 CFR 301.9100-1.

(2) Delegated to: Officials in the following offices:

Tax Exempt and Government Entities:

Directors of Employee Plans, Exempt Organizations, and Government Entities; Directors, EP and EO Rulings and Agreements; Manager, EO Technical; Manager, EO Technical Guidance and Quality Assurance; Manager, EP Technical; Manager, EP Technical Guidance and Quality Assurance; Manager, EP Voluntary Compliance; Manager, EO Projects/Voluntary Compliance; GE Directors of Federal, State and Local Governments, Indian Tribal Governments, and Tax Exempt Bonds; GE Managers of Outreach Planning and Review

Chief Counsel:

Branch Chiefs and technical assistants (including Senior Technician Reviewers and equivalents) in the offices of Division Counsel/Associate Chief Counsel (Tax Exempt and Government Entities); Associate Chief Counsel (Corporate); Associate Chief Counsel (Financial Institutions and Products); Associate Chief Counsel (Income Tax and Accounting); Associate Chief Counsel (International); Associate Chief Counsel (Passthroughs and Special Industries); and Associate Chief Counsel (Procedure and Administration)

(3) Redelegation: This authority may not be redelegated.

(4) Authority: To grant for IRC 505(c) and 508 matters, a reasonable extension of time fixed by regulations for making an election or application for relief in respect of tax under Subtitle A of the Code, subject to the requirements of 26 CFR 301.9100-1.

(5) Delegated to: Group Managers in the following Tax Exempt/Government Entities offices: Employee Plans; Exempt Organizations; Federal, State & Local Governments; Indian Tribal Governments; and Tax Exempt Bonds.

(6) Redelegation: This authority may not be redelegated.

(7) Authority: To grant for IRC 408A(d)(6) matters, a reasonable extension of time fixed by regulations for making an election or application for relief in respect of tax under Subtitle A of the Code, subject to the requirements of 26 CFR 301.9100-1.

(8) Delegated to: Group Managers authorized to issue letter rulings in EP Rulings and Agreements Technical of the Tax Exempt and Government Entities Division.

(9) Redelegation: This authority may not be redelegated.

(10) Source of Authority: 26 CFR 301.9100-1; Treasury Order 150-10.

(11) To the extent that the authority previously exercised consistent with this order may require ratification; it is hereby approved and ratified. This order supersedes Delegation Order No. 183 (Rev. 7), effective August 23, 1996 (as amended).

Dated: March 24, 2001.
Bob Wenzel,
Deputy Commissioner, Internal Revenue Service.

[FR Doc. 01-9524 Filed 4-19-01; 8:45 am]

BILLING CODE 4830-01-P